NATIONAL TRANSPORTATION SAFETY BOARD

Investigative Hearing

On Thursday, February 20, 2014, the National Transportation Safety Board (NTSB) will convene an investigative hearing to gather additional factual information for the ongoing investigation of the UPS Airbus A300-600 accident at Birmingham, Alabama, that occurred in August 2013. The NTSB Chairman Deborah A.P. Hersman will preside over the investigative hearing.

On August, 14, 2013, about 0447 central daylight time, UPS flight 1354, an Airbus A300-600, N155UP, crashed short of runway 18 while on approach to Birmingham-Shuttlesworth International Airport (BHM), Birmingham, Alabama. The two flight crewmembers were fatally injured, and the airplane was destroyed by impact forces and a postcrash fire. The cargo flight was operating under the provisions of 14 Code of Federal Regulations Part 121 and originated from Louisville International Airport, Louisville, Kentucky. Instrument meteorological conditions existed in the area at the time of the accident.

The flight crew was landing the airplane on runway 18 because the longer runway at BHM was closed for repairs at the time of the airplane's arrival. Review of the cockpit voice recorder and the flight data recorder indicated that the flight crew was executing a non-precision localizer approach using vertical VNAV guidance, and continued the descent below the decision altitude. Despite not having reported the airport in sight, the crew continued the descent and received enhanced ground proximity warning system sink rate warnings; they then indicated that they had the airport in sight. The airplane's vertical speed began to reduce as the airplane contacted trees and a power line; the airplane then impacted the ground about 0.75 nautical mile from the threshold of runway 18.

The investigative hearing will discuss the following issue areas:

• Execution of nonprecision approaches, including initial and recurrent training, adherence to standard operating procedures, and proficiency

• Human factors issues associated with effective crew coordination and resource management applicable to this accident, including decision-making, communication, fatigue, fitness for duty, and monitoring and cross-checking, and policies, standard operating procedures, guidance, and training provided to UPS crewmembers.

• Dispatch procedures, including the training, evaluation, roles, and responsibilities of UPS dispatchers, and the limitations of dispatch-related software.

Parties to the hearing will include the Federal Aviation Administration, UPS, Independent Pilots Association, Transport Workers Union, and Airbus. The accredited representative from the French Bureau d'Enquêtes et d'Analyses pour la sécurité de l'aviation civile will participate on the technical panel.

At the start of the hearing, the public docket will be opened. Included in the docket are photographs, interview transcripts, and other documents.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer and Examination of Witness by Board of Inquiry, Technical Panel, and Parties

7. Closing Statement by the Chairman of the Board of Inquiry

The hearing docket is DCA13MA133.

The Investigative Hearing will be held in the NTSB Board Room and Conference Center, located at 429 L'Enfant Plaza E SW., Washington, DC, on Thursday, February 20, 2014, beginning at 8:30 a.m. The public can view the hearing in person or by live Webcast at www.ntsb.gov. Web cast archives are generally available by the end of the next day following the hearing, and webcasts are archived for a period of 3 months from after the date of the event.

Individuals requiring reasonable accommodation and/or wheelchair access directions should contact Ms. Rochelle Hall at (202) 314-6305 or by email at Rochelle.Hall@ntsb.gov by Friday, February 14, 2014.

NTSB Media Contact: Mr. Eric Weiss—Eric.Weiss@ntsb.gov

NTSB Investigative Hearing Officer: Mr. John Lovell—john.lovell@ntsb.gov

Sheryl L. Chappell,
Executive Secretariat.

[FR Doc. 2014-02407 Filed 2-4-14; 8:45 am]

BILLING CODE 7533-01-P